ENVIRONMENTAL PROTECTION AGENCY

[ER-FRL-9028-2]

Environmental Impact Statements; Notice of Availability

Responsible Agency: Office of Federal Activities, General Information (202) 564-7146 or http://www.epa.gov/nepa.

Weekly Receipt of Environmental Impact Statements (EISs)

Filed 07/11/2016 Through 07/15/2016,

Pursuant to 40 CFR 1506.9.

Notice

Section 309(a) of the Clean Air Act requires that EPA make public its comments on EISs issued by other Federal agencies. EPA's comment letters on EISs are available at: http://www.epa.gov/compliance/nepa/eisdata.html.

EIS No. 20160164, Draft Supplemental, NRC, WY, Reno Creek In Situ Recovery Project, Supplement to the Generic Environmental Impact Statement for the In Situ Leach Uranium Facilities, Comment Period Ends: 09/06/2016, Contact: Jill Caverly 301-415-7674.

EIS No. 20160165, Final, USFWS, HI, Na Pua Makani Wind Project and Habitat Conservation Plan, Review Period Ends: 08/22/2016, Contact: Ms Jodi Charrier 808-792-9400.

EIS No. 20160166, Final, USFS, OR, Lower Joseph Creek Restoration Project, Review Period Ends: 08/23/2016, Contact: Anne Thomas 541-278-3860.

EIS No. 20160167, Draft Supplement, USACE, CA, Folsom Dam Raise Project, Comment Period Ends: 09/06/2016, Contact: Mariah Brumbaugh 916-557-6774.

EIS No. 20160168, Draft, NSA, MD, East Campus Integration Program, Comment Period Ends: 09/05/2016, Contact: Jeffrey Williams 301-688-2970.

EIS No. 20160169, Draft, BOEM, AK, Cook Inlet Planning Area Oil and Gas Lease Sale 244 Comment Period Ends: 09/06/2016, Contact: Caron McKee, 907-334-5200.

EIS No. 20160170, Final, BIA, IN, The Pokagon Band of Potawatomi Indians Fee-to-Trust Transfer for Tribal Village and Casino, Review Period Ends: 08/22/2016, Contact: Scott Doig 612-725-4514.

EIS No. 20160171, Final, BLM, UT, Moab Master Leasing Plan and Proposed Resource Management Plan Amendments, Review Period Ends: 08/22/2016, Contact: Brent Northrup 435-259-2151.

Amended Notices

EIS No. 20160132, Draft, FHWA, CO, US 50 Corridor East, Comment Period Ends: 08/12/2016, Contact: Patricia Sergeson 720-963-3073.

Revision to FR Notice Published 06/10/2016; Extending Comment Period from 07/29/2016 to 08/12/2016.

Dated: July 19, 2016.
Karin Leff,
Acting Director, NEPA Compliance Division, Office of Federal Activities.

[FR Doc. 2016-17382 Filed 7-21-16; 8:45 am]

BILLING CODE 6560-50-P